DEPARTMENT OF TRANSPORTATION

Federal Aviation Administration

14 CFR Part 39

[Docket No. FAA-2022-0878; Project Identifier MCAI-2022-00873-R; Amendment 39-22124; AD 2022-14-51]

RIN 2120-AA64

Airworthiness Directives; Airbus Helicopters

AGENCY: Federal Aviation Administration (FAA), DOT.

ACTION: Final rule; request for comments.

SUMMARY: The FAA is adopting a new airworthiness directive (AD) for certain Airbus Helicopters Model EC225LP helicopters. This AD was prompted by a report of a cracked main rotor hub (MRH) sleeve. This AD requires one-time visual inspections and, depending on the results, accomplishing additional inspections, repairing the MRH sleeve in accordance with a certain approval, and removing the MRH sleeve from service and installing an airworthy part. This AD also prohibits installing an MRH sleeve unless certain inspections have been accomplished. The FAA previously sent an emergency AD to all known U.S. owners and operators of these helicopters. The FAA is issuing this AD to address the unsafe condition on these products.

DATES: This AD is effective August 3, 2022. Emergency AD 2022-14-51, issued on July 1, 2022, which contained the requirements of this amendment, was effective with actual notice.

The Director of the Federal Register approved the incorporation by reference of a certain document listed in this AD as of August 3, 2022.

The FAA must receive comments on this AD by September 2, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Airbus Helicopters, 2701 North Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110. It is also available at https://www.regulations.gov by searching for and locating Docket No. FAA-2022-0878.

Examining the AD Docket

You may examine the AD docket at https://www.regulations.gov by searching for and locating Docket No. FAA-2022-0878; or in person at Docket Operations between 9 a.m. and 5 p.m., Monday through Friday, except Federal holidays. The AD docket contains this final rule, the European Union Aviation Safety Agency (EASA) AD, any comments received, and other information. The street address for Docket Operations is listed above.

FOR FURTHER INFORMATION CONTACT: Kristi Bradley, Program Manager, COS Program Management Section, Operational Safety Branch, Compliance & Airworthiness Division, FAA, 10101 Hillwood Pkwy., Fort Worth, TX 76177; telephone (817) 222-5110; email kristin.bradley@faa.gov.

SUPPLEMENTARY INFORMATION:

Background

On July 1, 2022, the FAA issued Emergency AD 2022-14-51, which requires certain inspections and corrective actions for Airbus Helicopters Model EC225LP helicopters with MRH sleeve part number (P/N) 332A31-3071-00 installed. The FAA sent the emergency AD to all known U.S. owners and operators of these helicopters. That action was prompted by EASA Emergency AD 2022-0130-E, dated June 30, 2022 (EASA AD 2022-0130-E), issued by EASA, which is the Technical Agent for the Member States of the European Union, to correct an unsafe condition for Airbus Helicopters (AH), formerly Eurocopter, Model EC 225 LP helicopters. EASA advises of a crack in an MRH sleeve that investigation determined was a fatigue crack that had initiated from a corrosion pit located in an area with chipped paint. This condition, if not addressed, could result in failure of an MRH sleeve, loss of a main rotor blade, and subsequent loss of the helicopter.

Accordingly, EASA AD 2022-0130-E requires initial one-time detailed visual inspections of MRH sleeve P/N 332A31-3071-00 and depending on the results, follow-on repetitive inspections and corrective actions.

FAA's Determination

These helicopters have been approved by EASA and are approved for operation in the United States. Pursuant to the FAA's bilateral agreement with the European Union, EASA has notified the FAA about the unsafe condition described in its emergency AD. The FAA is issuing this AD after evaluating all known relevant information and determining that the unsafe condition described previously is likely to exist or develop on other helicopters of the same type design.

Related Service Information Under 1 CFR Part 51

The FAA reviewed Airbus Helicopters Emergency Alert Service Bulletin No. 62A017, Revision 0, dated June 30, 2022, which applies to Model EC225LP and EC725AP helicopters. This service information specifies procedures for one-time detailed visual inspections of a certain area (identified as “Specific area” in Figure 3 of the service information) of MRH sleeve P/N 332A31-3071-00. Depending on the one-time inspection results, this service information specifies procedures for follow-on inspections, which include eddy current inspections, and chemical stripping and fluorescent penetrant inspections; and corrective actions, which include applying primer and paint protection, removing corrosion, applying a protective coating, contacting Airbus Helicopters for corrective action, and removing and returning the MRH sleeve to Airbus Helicopters.

This service information is reasonably available because the interested parties have access to it through their normal course of business or by the means identified in the ADDRESSES section.

AD Requirements

This AD requires visually inspecting the “Specific area” of each MRH sleeve P/N 332A31-3071-00 for flaking and paint touch-up. If there is any flaking or paint touch-up, this AD requires visually inspecting the “Specific area” of the MRH sleeve for a crack.

As a result of the visual inspection, if there is a crack, this AD requires removing the MRH sleeve from service and installing an airworthy part. If there is not a crack, this AD requires an inspector with a certain qualification using high-frequency eddy current (HFEC) to inspect the “Specific area” of the MRH sleeve for a crack.

As a result of the HFEC, if there is a crack, this AD requires removing the MRH sleeve from service and installing an airworthy part. If there is not a crack, this AD requires chemically stripping and fluorescent penetrant inspecting (FPI) the “Specific area” of the MRH sleeve for corrosion.

As a result of the FPI, if there is corrosion, this AD requires removing the corrosion by hand and repeating the FPI of each affected area to inspect for corrosion, and depending on the subsequent results, removing the MRH sleeve from service and installing an airworthy part; or drying the MRH sleeve, applying a protective coating, primer, and paint protection, and having an inspector with a certain qualification using HFEC repetitively inspect the “Specific area” of the MRH sleeve for a crack. If there is a crack, this AD requires removing the MRH sleeve from service and installing an airworthy part. However, if the corrosion cannot be removed by hand, this AD requires removing the MRH sleeve from service and installing an airworthy part or repairing the MRH sleeve in accordance with a certain approved method.

As a result of the first FPI, if there is no corrosion, this AD requires applying primer and paint protection.

As an option to the first FPI and its follow-on actions, if there is not a crack, this AD allows applying primer and paint protection or, for any areas with flaking paint, applying only varnish instead of primer and paint protection on each flaking paint area; and having an inspector with a certain qualification using HFEC to repetitively inspect the “Specific area” of the MRH sleeve for a crack. If there is a crack, this AD requires removing the MRH sleeve from service and installing an airworthy part.

This AD also prohibits installing an MRH sleeve unless specified one-time visual inspections have been accomplished.

Differences Between This AD and the EASA AD

If there is corrosion in an MRH sleeve, EASA AD 2022-0130-E requires contacting Airbus Helicopters for approved repair instructions, whereas this AD requires removing the MRH sleeve from service or repairing the MRH sleeve in accordance with a certain approved method.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2022-14-51, issued on July 1, 2022, to all known U.S. owners and operators of these helicopters. The FAA found that the risk to the flying public justified waiving notice and comment prior to adoption of this rule because failure of an affected part could result in loss of the helicopter and injury to its occupants and persons on the ground. In light of this, the initial actions required by this AD must be accomplished before further flight and certain follow-on actions required by this AD must be accomplished within 15 hours time-in-service or 3 months, whichever occurs first after accomplishing the initial actions. These compliance times are shorter than the time necessary for the public to comment and for publication of the final rule. These conditions still exist, therefore, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-0878; Project Identifier MCAI-2022-00873-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kristi Bradley, Program Manager, COS Program Management Section, Operational Safety Branch, Compliance & Airworthiness Division, FAA, 10101 Hillwood Pkwy., Fort Worth, TX 76177; telephone (817) 222-5110; email kristin.bradley@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 33 helicopters of U.S. Registry. Labor rates are estimated at $85 per work-hour. Based on these numbers, the FAA estimates the following costs to comply with this AD.

Visually inspecting an affected MRH sleeve for flaking and paint touch-up takes about 0.5 work-hour for an estimated cost of $43 per MRH sleeve and up to $7,095 for the U.S. fleet (with up to five affected MRH sleeves per helicopter).

If required, visually inspecting each MRH sleeve for a crack takes about 0.5 work-hour for an estimated cost of $43 per MRH sleeve. Accomplishing an HFEC takes about 0.5 work-hour for an estimated cost of $43 per MRH sleeve, per inspection cycle. Chemically stripping and accomplishing an FPI takes about 8 work-hours for an estimated cost of $680 per MRH sleeve, per inspection cycle.

Removing corrosion and applying protective coating, primer, and paint protection takes a minimal amount of time and parts cost a nominal amount. Replacing an MRH sleeve takes about 4 work-hours and parts cost about $102,371 for an estimated cost of $102,711 per MRH sleeve. The FAA has no way of determining the costs pertaining to any necessary repairs that are required to be done with an approved method.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-14-51 Airbus Helicopters: Amendment 39-22124; Docket No. FAA-2022-0878; Project Identifier MCAI-2022-00873-R.

(a) Effective Date

The FAA issued Emergency Airworthiness Directive (AD) 2022-14-51 on July 1, 2022, directly to affected owners and operators. As a result of such actual notice, that AD was effective for those owners and operators on the date it was provided. This AD contains the same requirements as that emergency AD and, for those who did not receive actual notice, is effective on August 3, 2022.

(b) Affected ADs

None.

(c) Applicability

This AD applies to Airbus Helicopters Model EC225LP helicopters, certificated in any category, with main rotor hub (MRH) sleeve part number 332A31-3071-00 installed.

(d) Subject

Joint Aircraft Service Component (JASC) Code: 6200, Main Rotor System.

(e) Unsafe Condition

This AD was prompted by a report of a cracked MRH sleeve. The FAA is issuing this AD to detect corrosion or cracking in an MRH sleeve. The unsafe condition, if not addressed, could result in failure of an MRH sleeve, loss of a main rotor blade, and subsequent loss of the helicopter.

(f) Compliance

Comply with this AD within the compliance times specified, unless already done.

(g) Required Actions

(1) Before further flight after the effective date of this AD, visually inspect the “Specific area” of each MRH sleeve as depicted in Figure 3 of Airbus Helicopters Emergency Alert Service Bulletin No. 62A017, Revision 0, dated June 30, 2022 (ASB 62A017), for flaking and paint touch-up.

(2) As a result of the actions required by paragraph (g)(1) of this AD, if there is no flaking or paint touch-up, no further action is required. If there is any flaking or paint touch-up, before further flight, visually inspect the “Specific area” of the MRH sleeve as depicted in Figure 3 of ASB 62A017 for a crack.

(3) As a result of the actions required by paragraph (g)(2) of this AD, if there is a crack, before further flight, remove the MRH sleeve from service and replace it with an airworthy part. If there is not a crack, within 15 hours time-in-service (TIS) or 3 months, whichever occurs first after accomplishing the actions required by paragraph (g)(1) of this AD, use high-frequency eddy current (HFEC) to inspect the “Specific area” of the MRH sleeve as depicted in Figure 3 of ASB 62A017 for a crack. This HFEC inspection must be accomplished by a Level II or III inspector certified in the eddy current fault detection method in the Aeronautics Sector according to the EN4179 or NAS410 standard.

(4) As a result of the actions required by paragraph (g)(3) of this AD, if there is a crack, before further flight, remove the MRH sleeve from service and replace it with an airworthy part. If there is not a crack, before further flight, chemically strip and fluorescent penetrant inspect (FPI) the “Specific area” of the MRH sleeve as depicted in Figure 3 of ASB 62A017 for corrosion.

(i) If there is corrosion as a result of the actions required by the introductory text of paragraph (g)(4) of this AD, before further flight, accomplish the actions required by paragraph (g)(4)(i)(A) or (B) of this AD.

(A) Remove the corrosion by hand using 120-grit abrasive cloth, followed by 400-grit abrasive cloth. After removing the corrosion, perform an FPI of each affected area to inspect for corrosion, and accomplish the actions required by paragraph (g)(4)(i)(A)(1) or (2) of this AD.

(1) If there is corrosion, before further flight, remove the MRH sleeve from service and replace it with an airworthy part or repair it in accordance with a method approved by the Manager, General Aviation & Rotorcraft Section, International Validation Branch, FAA; or European Union Aviation Safety Agency (EASA); or Airbus Helicopters' EASA Design Organization Approval (DOA). If approved by the DOA, the approval must include the DOA-authorized signature.

(2) If there is no corrosion, before further flight, completely dry the MRH sleeve and apply a protective coating, primer, and paint protection. Following application, within 15 hours TIS and thereafter at intervals not to exceed 15 hours TIS, use HFEC to inspect the “Specific area” of the MRH sleeve as depicted in Figure 3 of ASB 62A017 for a crack. This HFEC inspection must be accomplished by a Level II or III inspector certified in the eddy current fault detection method in the Aeronautics Sector according to the EN4179 or NAS410 standard. If there is a crack, before further flight, remove the MRH sleeve from service and replace it with an airworthy part. Accomplishment of the HFEC inspections with no detected cracks after 75 hours TIS since applying the coating, primer, and paint protection constitutes a terminating action for the repetitive inspections required by this paragraph.

(B) If the corrosion cannot be removed by hand as specified in paragraph (g)(4)(i)(A) of this AD, before further flight, remove the MRH sleeve from service and replace it with an airworthy part or repair it in accordance with a method approved by the Manager, General Aviation & Rotorcraft Section, International Validation Branch, FAA; or EASA; or Airbus Helicopters' EASA DOA. If approved by the DOA, the approval must include the DOA-authorized signature.

(ii) If there is no corrosion as a result of the actions required by the introductory text of paragraph (g)(4) of this AD, before further flight, apply primer and paint protection.

(5) As an option to the actions required by paragraph (g)(4) of this AD, if there is not a crack, accomplish the actions required by paragraphs (g)(5)(i) and (ii) of this AD.

(i) Before further flight, apply primer and paint protection. If there is any area with flaking paint, you may apply only varnish instead of primer and paint protection on each flaking paint area.

(ii) Within 15 hours TIS after accomplishing the actions required by paragraph (g)(5)(i) of this AD and thereafter at intervals not to exceed 15 hours TIS, HFEC inspect the “Specific area” of the MRH sleeve as depicted in Figure 3 of ASB 62A017 for a crack. This HFEC inspection must be accomplished by a Level II or III inspector certified in the eddy current fault detection method in the Aeronautics Sector according to the EN4179 or NAS410 standard. If there is a crack, before further flight, remove the MRH sleeve from service and replace it with an airworthy part.

(6) As of the effective date of this AD, do not install an MRH sleeve identified in paragraph (c) of this AD on any helicopter unless the actions required by paragraphs (g)(1) and (2) of this AD have been accomplished.

(h) Special Flight Permits

A special flight permit may be issued in accordance with 14 CFR 21.197 and 21.199 provided that there are no passengers onboard and there is no crack or corrosion in an MRH sleeve.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Kristi Bradley, Program Manager, COS Program Management Section, Operational Safety Branch, Compliance & Airworthiness Division, FAA, 10101 Hillwood Pkwy., Fort Worth, TX 76177; telephone (817) 222-5110; email kristin.bradley@faa.gov.

(2) The subject of this AD is addressed in EASA Emergency AD 2022-0130-E, dated June 30, 2022. You may view the EASA AD at https://www.regulations.gov in Docket No. FAA-2022-0878.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin No. 62A017, Revision 0, dated June 30, 2022.

(ii) [Reserved]

(3) For Airbus Helicopters service information identified in this AD, contact Airbus Helicopters, 2701 North Forum Drive, Grand Prairie, TX 75052; telephone (972) 641-0000 or (800) 232-0323; fax (972) 641-3775; or at https://www.airbus.com/helicopters/services/technical-support.html.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on July 8, 2022.
Christina Underwood,
Acting Director, Compliance & Airworthiness Division, Aircraft Certification Service.

[FR Doc. 2022-15387 Filed 7-14-22; 4:15 pm]

BILLING CODE 4910-13-P